FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than February 1, 2013.

A. Federal Reserve Bank of Chicago (Colette A. Fried, Assistant Vice President) 230 South LaSalle Street, Chicago, Illinois 60690-1414:

1. Trident SBI Holdings, L.P., Trident SBI GP Holdings, LLC, Trident V, L.P., Trident V Parallel Fund, L.P., Trident V Professionals Fund, L.P., Trident Capital V, L.P., Trident Capital V-PF, L.P., Stone Point Capital LLC, Stone Point GP Ltd, SPC Management Holdings, LLC, CD Trident V, LLC, MH Trident V, LLC, JC Trident V, LLC, DW Trident V, LLC, NZ, Trident V, LLC, Charles A. Davis, all of Greenwich, Connecticut, James D. Carey, Riverside, Connecticut, Meryl D. Hartzband and David J. Wermuth, both of New York, New York, and Nicholas D. Zerbib, Larchmont, New York; to acquire 10 percent or more of the voting shares of Standard Bancshares, Inc., and thereby indirectly acquire voting shares of Standard Bank and Trust Company, both in Hickory Hills, Illinois.

Board of Governors of the Federal Reserve System, January 14, 2013.
Margaret McCloskey Shanks,
Deputy Secretary of the Board.

[FR Doc. 2013-00915 Filed 1-16-13; 8:45 am]

BILLING CODE 6210-01-P